DEPARTMENT OF ENERGY

Federal Energy Regulatory Commission

[Docket No. PL21-3-000]

Technical Conference on Greenhouse Gas Mitigation: Natural Gas Act Sections 3 and 7 Authorizations; Notice of Technical Conference

Take notice that the Federal Energy Regulatory Commission (Commission) will convene a Commission staff-led technical conference to discuss methods natural gas companies may use to mitigate the effects of direct and indirect greenhouse gas emissions resulting from Natural Gas Act sections 3 and 7 authorizations. The technical conference will be held on Friday, November 19, 2021, from approximately 9:00 a.m. to 5:00 p.m. Eastern time. The conference will be held virtually.

The conference will be open for the public to attend virtually, and there is no fee for attendance. Supplemental notices will be issued prior to the conference with further details regarding the agenda and how to participate as a panelist. Information on this technical conference will also be posted on the Calendar of Events on the Commission's website, www.ferc.gov, prior to the event. Transcripts will be available for a fee from Ace Reporting, (202) 347-3700.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference, please contact GHGTechConf@ferc.gov. For information related to logistics, please contact Sarah McKinley at sarah.mckinley@ferc.gov or (202) 502-8368. This notice is issued and published in accordance with 18 CFR 2.1.

Dated: September 16, 2021.
Kimberly D. Bose,
Secretary.

[FR Doc. 2021-20485 Filed 9-21-21; 8:45 am]

BILLING CODE 6717-01-P